DEPARTMENT OF JUSTICE

Antitrust Division

Notice Pursuant to the National Cooperative Research and Production Act of 1993—DVD Copy Control Association

Notice is hereby given that, on June 12, 2008, pursuant to Section 6(a) of the National Cooperative Research and Production Act of 1993, 15 U.S.C. 4301 et seq. (“the Act”), DVD Copy Control Association has filed written notifications simultaneously with the Attorney General and the Federal Trade Commission disclosing changes in its membership. The notifications were filed for the purpose of extending the Act's provisions limiting the recovery of antitrust plaintiffs to actual damages under specified circumstances. Specifically, A&A Stamper House Inc., Baldwin Park, CA; ArcSoft Inc., Fremont, CA; BayTSP.Com, Inc., Los Gatos, CA; Challenge Technology (Hong Kong) Limited, Kwun Tong, HONG KONG-CHINA; Main Technology Co., Ltd., Taipei Hsien, TAIWAN; Telestream, Inc., Nevada City, CA; The Refined Industry Co., Ltd., Shatin, HONG KONG-CHINA; and Vobile, Inc., Santa Clara, CA have been added as parties to this venture.

Also, Netflix Inc., Los Gatos, CA; and PrimeDisc Limited, Fo Tan, Shatin, HONG KONG-CHINA have withdrawn as parties to this venture. In addition, the following members have changed their names: CCE da Amazonia S.A. to Cemaz Indústria Electrônica da Amazonia S/A, Sao Paulo, BRAZIL; CustomFlix Labs Inc. to On Demand Publishing LLC, Scotts Valley, CA; KD Media, Inc. to MediaCore, Inc., Gyeonggi-do, REPUBLIC OF KOREA; and TAKT Kwiatkowski & Miadzel Sp.j to TAKT Sp. z.o.o., Warsaw, POLAND.

No other changes have been made in either the membership or planned activity of the group research project. Membership in this group research project remains open, and DVD Copy Control Association intends to file additional written notifications disclosing all changes in membership.

On April 11, 2001, DVD Copy Control Association filed its original notification pursuant to Section 6(a) of the Act. The Department of Justice published a notice in the Federal Register pursuant to Section 6(b) of the Act on August 3, 2001 (66 FR 40727).

The last notification was filed with the Department on March 17, 2008. A notice was published in the Federal Register pursuant to Section 6(b) of the Act on April 23, 2008 (73 FR 21984).

Patricia A. Brink,
Deputy Director of Operations, Antitrust Division.

[FR Doc. E8-16439 Filed 7-18-08; 8:45 am]

BILLING CODE 4410-11-M